DEPARTMENT OF THE INTERIOR

Fish and Wildlife Service

Preparation of an Environmental Impact Statement for Issuance of Incidental Take Permits Associated With a Habitat Conservation Plan for the Kern Valley Floor, CA

AGENCY: Fish and Wildlife Service, Interior.

ACTION: Notice of intent.

SUMMARY: Pursuant to the National Environmental Policy Act, the Fish and Wildlife Service (Service) advises the public that we intend to gather information necessary to prepare, in coordination with Kern County, a joint Environmental Impact Statement /Environmental Impact Report (EIS/EIR) on the Kern County Valley Floor Habitat Conservation Plan (Plan). The Plan covers an area of 3,110 square miles (1,990,400 acres) of the Valley Floor in Kern County, California. Kern County and others intend to request Endangered Species Act permits for 11 species federally listed as threatened or endangered and 17 unlisted species that may become listed during the term of the permits. The permits are needed to authorize take of listed species that could occur as a result of urban and oil field development, and associated facilities.

The Service provides this notice to: (1) Describe the proposed action and possible alternatives; (2) advise other Federal and State agencies, affected Tribes, and the public of our intent to prepare an EIS/EIR; (3) announce the initiation of a public scoping period; and (4) obtain suggestions and information on the scope of issues to be included in the EIS/EIR. While written comments are encouraged, we will accept both written and oral comments at the meetings. In addition, you may submit written comments by mail or facsimile transmission.

DATES: Public meetings will be held on the following dates: (1) November 19, 2002, 2 p.m. to 4 p.m., Taft, California; and (2) November 19, 2002, 7 p.m. to 9 p.m., Bakersfield, California. Written comments should be received on or before December 2, 2002.

ADDRESSES: The meeting locations are: (1) Taft-218 Taylor Street, Taft Veteran's Hall, Room #1; and (2) Bakersfield-2700 M Street, Kern County Public Services Building, First Floor Conference Room. Information, written comments, or questions related to the preparation of the EIS/EIR and the National Environmental Policy Act process should be submitted to Vicki Campbell, Division Chief, Conservation Planning, U.S. Fish and Wildlife Service, Sacramento Fish and Wildlife Office, 2800 Cottage Way, W-2605, Sacramento, California 95825; FAX (916) 414-6713.

FOR FURTHER INFORMATION CONTACT: Sheila Larsen, Fish and Wildlife Biologist, or Vicki Campbell, Division Chief, Conservation Planning, at the Sacramento Fish and Wildlife Office at (916) 414-6600.

SUPPLEMENTARY INFORMATION:

Reasonable Accommodation

Persons needing reasonable accommodations in order to attend and participate in the public meetings should contact Vicki Campbell at (916) 414-6600 as soon as possible. In order to allow sufficient time to process requests, please call no later than one week before the hearing. Information regarding this proposed action is available in alternative formats upon request.

Background

Section 9 of the Act and Federal regulation prohibit the “take” of animal species listed as endangered or threatened. Take is defined under the Act as harass, harm, pursue, hunt, shoot, wound, kill, trap, capture or collect listed animal species, or attempt to engage in such conduct (16 U.S.C. 1538). However, under limited circumstances, the Service may issue permits to authorize “incidental take” of listed animal species. “Incidental take” is defined by the Act as take that is incidental to, and not the purpose of, carrying out an otherwise lawful activity. Regulations governing permits for threatened species and endangered species, respectively, are at 50 CFR 17.32 and 50 CFR 17.22.

The Plan will address incidental take of 28 covered species (species for which incidental take authorization is requested). These include the federally listed as endangered blunt-nosed leopard lizard (Gambelia sila), Tipton kangaroo rat (Dipodomys nitratoides nitratoides), giant kangaroo rat (Dipodomys ingens), San Joaquin kit fox (Vulpes macrotis mutica), Buena Vista Lake shrew (Sorex ornatus relictus), California jewelflower (Caulanthus californicus), Kern mallow (Eremalche kernensis), San Joaquin woolly threads (Monolopia congdonii), Bakersfield cactus (Opuntia basilaris var. treleasei), and the threatened Hoover's eriastrum (Eriastrum hooveri), San Joaquin Adobe Sunburst (Pseudobahia peirsonii), and 17 currently unlisted species and their habitats.

The proposed geographic area to be included in the Plan can be generally described as that portion of the San Joaquin Valley floor within Kern County, bounded by San Luis Obispo County to the west, Kings and Tulare counties to the north, and the 2,000-foot elevation contour to the east and south. On the west side, portions of the Plan area are at elevations greater than 2,000 feet. The project area includes approximately 3,110 square miles (1,990,400 acres). The Plan excludes several areas that are covered under separate conservation planning efforts. Excluded areas include the Coles Levee Ecosystem Preserve, Elk Hills (formerly Naval Petroleum Reserve in California No. 1), Buena Vista Naval Petroleum Reserve in California No. 2, and the area covered by the existing Metropolitan Bakersfield Habitat Conservation Plan. However, the Plan will include oil and gas production activities within the Metropolitan Bakersfield Habitat Conservation Plan area, as those activities were not authorized for take under the Metropolitan Bakersfield Habitat Conservation Plan. Oil and gas production activities will occur within 497,176 acres in the Plan area, as well as 90,083 acres in the Metropolitan Bakersfield Habitat Conservation Plan area.

Under the Plan, effects of urbanization and other activities are expected to be minimized and mitigated through participation in the conservation program, which will be described in the Plan. The focus of this conservation program is to provide long-term protection of covered species by protecting biological communities in the Plan area, including nonnative grasslands, valley saltbush scrub, and valley sink scrub. The proposed major conservation components are described below.

Habitat Zones. The valley floor is broken up into three zones: Red Zone (128,594 acres), Green Zone (774,348 acres), and White Zone (1,087,241 acres). These habitat zones establish conservation priority of lands within the Plan area based on the relative conservation value of the habitat found in each zone. There are eight individual Red Zones ranging from 480 to 50,160 acres. The Red Zones contain the highest quality habitat for covered species. A number of rare plant occurrences are also found in the Red Zones. The Green Zone has the second highest habitat quality and generally includes areas around the western, southern, and eastern edges of the Plan area. The White Zone contains approximately 55 percent of the total Plan area. The White Zone generally has less valuable habitat and occurs throughout the central and eastern portions of the valley floor and is composed mostly of lands in active agriculture. These habitat zones serve as the basis for the Compensation Framework.

Compensation Framework and Options. The Compensation Framework is a compensate-as-you-go approach that encourages conservation of Red Zone and Green Zone habitats and creates a system of conservation credits based on habitat quality. Credits are created by willing landowners and purchased by project proponents on a free market basis. Except in limited circumstances, White Zone land will not qualify for conservation preserves.

Several compensation options are described in the Plan. The first option, Direct Fee Payment, would allow project proponents to pay a predetermined fee to Kern County to purchase conservation credits. The County would then pool those fees to obtain conservation lands through either fee title, purchase of conservation easements, or a combination of both.

The second option, Industry/Agency Conservation Strategy, would address incidental take of covered species that may occur as a result of certain activities associated with major land uses (e.g., oil and gas, water systems, urban development, and public infrastructure). Within this option, three strategies are proposed for dealing with oil field development, urban development, and public infrastructure development. Within the Red Zone all cumulative development cannot exceed 10 percent. The oil strategy proposes an up-front, one-time compensation for continued oil field development within the administrative boundaries of the California Division of Oil, Gas, and Geothermal Resources (DOGGR) defined oil fields. The one-time compensation would provide 3,000 acres of compensation for future oil activities associated with 1,000 new wells (approximate 3 acres of disturbance per oil well) within the “step out” areas defined by DOGGR. The urban development strategy would allow certain permitted activities, and place a limit on the size of individual projects. Permitted activities would include residential development, commercial development; industrial development, private recreational facilities; miscellaneous facilities associated with urbanization, and electrical generating facilities supplying urban power. The strategy for public infrastructure would include certain activities undertaken by various departments of Kern County and special districts. The Water District Strategy allows operating and maintenance activities, and certain Water District development projects to be undertaken.

The third option, Direct Negotiation, would allow a project proponent to address compliance, under the Endangered Species Act of 1973, as amended, and the California Endangered Species Act, independent of this Plan.

The Plan also contains take avoidance and minimization measures that include, but are not limited to, relocation of individuals from the project site, avoidance of active San Joaquin kit fox natal dens, hand excavation of San Joaquin kit fox non-natal dens, and avoidance of active kangaroo rat burrow complexes by 50 feet. Safety Nets would also be established to ensure that no more than 10 percent disturbance would be allowed in each Red Zone; disturbance in the Green Zone would not exceed 25 percent; and a minimum width of 1 mile of connection between occurrences of contiguous natural habitat would be maintained throughout the Red and Green Zones. Safety Nets are also part of the Rare Plant Conservation Strategy designed to protect specific plant species with localized and restricted distributions.

Environmental Impact Statement/Report

Kern County and the Service have selected URS Corporation to prepare the Draft EIS/EIR. The joint document will be prepared in compliance with the National Environmental Policy Act and the California Environmental Quality Act. Although URS Corporation will prepare the EIS/EIR, the Service will be responsible for the scope and content of the document for National Environmental Policy Act purposes, and the County will be responsible for the scope and content of the document for California Environmental Quality Act purposes.

The EIS/EIR will consider the proposed action (issuance of section 10(a)(1)(B) Endangered Species Act permits), and a reasonable range of alternatives. Potential alternatives may include a compensation ratio unique to each of the three zones for habitat disturbance, assigning a relative conservation credit value per acre within each habitat zone, and a no action alternative. Under the compensation ratio alternative, the Red Zone lands would have a compensation ratio of 9:1; the Green Zone, 6:1; and the White Zone, 3:1. Compensation, in the form of habitat protection, would be in place prior to impacts. Under the conservation credit value alternative, a compensation ratio of not more than 3:1, based on conservation credits, would be used to determine compensatory requirements. Credits would be generated by the permanent preservation of habitat, restoration, granting of conservation easements, and other measures. The value of the credits and the amount of required compensation would be based on the conservation value of the land preserved and impacted, respectively. Under the no action alternative, the Service would not issue section 10(a)(1)(B) permits.

Potentially significant impacts on biological resources, land use, air quality, water quality, mineral resources (oil and gas), water resources (treatment, storage, and conveyance systems), and economics could occur directly or indirectly with implementation of the proposed action and alternatives. Land development could cause incidental take of federally listed species for which the Plan proposes to provide a method of compensation that could achieve protection of covered species through habitat conservation. Also, the proposed Habitat Zones could potentially influence development patterns and associated land use decisions, oil and gas activities, and development of water systems within the affected area. For all potentially significant impacts, the EIS/EIR will identify mitigation measures where feasible.

Environmental review of the Plan will be conducted in accordance with the requirements of the 1969 National Environmental Policy Act, as amended (42 U.S.C. 4321 et seq.), its implementing regulations (40 CFR parts 1500-1508), other applicable regulations, and Service procedures for compliance with those regulations. This notice is being furnished in accordance with Section 1501.7 of the National Environmental Policy Act to obtain suggestions and information from other agencies and the public on the scope of issues to be addressed in the EIS/EIR. We invite written comments from interested parties to ensure that the full range of issues related to the permit requests are addressed and that all significant issues are identified. All comments received, including names and addresses, will become part of the official administrative record and may be made available to the public.

The primary purpose of the scoping process is to identify, rather than to debate, significant issues related to the proposed action. Interested persons are encouraged to provide comments on the scope of issues and alternatives to be addressed in the Draft EIS/EIR.

Dated: October 24, 2002.
David G. Paullin,
Acting Deputy Manager, Region 1, California/Nevada Operations Office, Sacramento, California.

[FR Doc. 02-27659 Filed 10-30-02; 8:45 am]

BILLING CODE 4310-55-P